FEDERAL COMMUNICATIONS COMMISSION

[OMB 3060-1216; FR ID 237257]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before October 11, 2024. If you anticipate that you will be submitting comments but find it difficult to do so within the period of time allowed by this notice, you should advise the contacts below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-1216.

Title: Media Bureau Incentive Auction Implementation, Sections 73.3700(c), (g)(4), (h)(5) and (h)(6).

Form No.: N/A.

Type of Review: Revision of a currently approved collection.

Respondents: Business or other for-profit entities; Not for profit institutions.

Number of Respondents and Responses: 1,353 respondents and 46,302 responses.

Estimated Time per Response: .004-15 hours.

Frequency of Response: One-time reporting requirement; on occasion reporting requirement; recordkeeping requirement.

Obligation to Respond: Required to obtain or retain benefits. Statutory authority for these collections are contained in 47 U.S.C. 151, 154, 301, 303, 307, 308, 309, 310, 316, 319, 325(b), 332, 336(f), 338, 339, 340, 399b, 403, 534, 535, 1404, 1452, and 1454.

Total Annual Burden: 17,802 hours.

Annual Cost Burden: $961,800.

Needs and Uses: The Spectrum Act directed the Commission to hold a “reverse auction” in which broadcasters can voluntarily return some or all of their broadcast spectrum usage rights in exchange for incentive payments. The Spectrum Act also required the Commission to reorganize the broadcast television band, which will be accomplished by repacking stations, or moving broadcast stations to different channels. The Spectrum Act directed the Commission to hold a forward auction of the ultra-high frequency (UHF) spectrum obtained as a result of the reverse auction and channel repacking. This UHF spectrum was auctioned as flexible-use licenses suitable for providing mobile broadband service. Broadcast stations that participated in the forward auction were able to relinquish their spectrum rights, agree to share a channel with another broadcaster or move from the UHF to VHF band or from a high VHF channel to a low VHF channel. For non-participating broadcast stations, the Spectrum Act established a TV Broadcaster Relocation Fund (Fund) to reimburse reassigned broadcasters and multichannel video programming distributors (MVPDs) that incur expenses associated with continuing to carry relocated stations, for their reasonable expenses resulting from the post-auction channel reassignment. The Commission adopted rules implementing the provisions of the Spectrum Act. The Incentive Auction concluded and repack process commented in April 2017. The rules governing the post-incentive auction licensing and other post-auction station-related matters are codified at 47 CFR parts 0, 1, 27, 73 and 74.

On September 19, 2023, the Commission released a Report and Order, FCC 23-72, wherein it adopted several revisions to its Part 73 rules including 73.3700. As a result of these rule revisions, a number of collections and burdens were either revised or eliminated altogether as reflected in this revised supporting statement. Sections 73.3700(b)(4)(i) and (ii) and 73.3700(d) of the rules were eliminated and therefore the corresponding collections and burdens for these rules have been eliminated. Also, revisions were made to estimates for 73.3700(c), 73.3700(g)(4) and 73.3700 (h)(5) and (h)(6) to reflected updated data now that the incentive auction is complete and the exact universe of affected entities is known.

Federal Communications Commission.
Katura Jackson,
Federal Register Liaison Officer.

[FR Doc. 2024-17906 Filed 8-9-24; 8:45 am]

BILLING CODE 6712-01-P